DEPARTMENT OF TRANSPORTATION

Office of the Secretary

Aviation Proceedings, Agreements Filed the Week Ending April 14, 2006

The following Agreements were filed with the Department of Transportation under the sections 412 and 414 of the Federal Aviation Act, as amended (49 U.S.C. 1382 and 1384) and procedures governing proceedings to enforce these provisions. Answers may be filed within 21 days after the filing of the application.

Docket Number: OST-2006-24489.

Date Filed: April 11, 2006.

Parties: Members of the International Air Transport Association.

Subject:

Mail Vote 482—Resolution 010i, TC3 Japan—Korea, Special Passenger Amending Resolution between Japan and Korea (Rep. of),

Intended effective date: 1 May 2006.

Docket Number: OST-2006-24490.

Date Filed: April 11, 2006.

Parties: Members of the International Air Transport Association.

Subject:

PTC2 EUR Mail Vote 484. Special Amending Resolution 010k between Luxembourg and Europe.

Intended effective date: 1 June 2006.

Renee V. Wright,
Program Manager, Docket Operations, Federal Register Liaison.

[FR Doc. E6-6661 Filed 5-2-06; 8:45 am]

BILLING CODE 4910-9X-P